DEPARTMENT OF HEALTH AND HUMAN SERVICES

Centers for Disease Control and Prevention

Notice of Award of a Single-Source Cooperative Agreement To Fund Southern Nations, Nationalities, and Peoples Regional Health Bureaus, Ethiopia

AGENCY: Centers for Disease Control and Prevention (CDC), Department of Health and Human Services (HHS).

ACTION: Notice.

SUMMARY: The Centers for Disease Control and Prevention (CDC), located within the Department of Health and Human Services (HHS), announces the award of approximately $6,000,000 for Year 1 of funding to the Southern Nations, Nationalities, and Peoples Regional Health Bureaus (SNNPRHB). The award will ensure continuity of quality comprehensive HIV/AIDS prevention, care, and treatment services for controlling the HIV epidemic in SNNPR in Ethiopia. Funding amounts for years 2-5 will be set at continuation.

DATES: The period for this award will be September 30, 2022 through September 29, 2027.

FOR FURTHER INFORMATION CONTACT: Tesfaye Desta, Center for Global Health, Centers for Disease Control and Prevention, US Embassy-Addis Ababa, Entoto Road, Addis Ababa, Ethiopia, Telephone: 800-232-6348, Email: hmz4@cdc.gov.

SUPPLEMENTARY INFORMATION: The single-source award will implement activities and provide support regarding prevention, testing and counselling, prevention of mother to child transmission, care and treatment, laboratory, Strategic Information (M&E, Surveillance, HIS), TB/HIV and other public health needs affecting HIV/AIDS programming like COVID-19 in the Southern Nations, Nationalities, and Peoples Region.

The award will support the strengthening of public health response and programs, including but not limited to HIV/AIDS, in the SNNPR. SNNPRHB is in a unique position to conduct this work as it is the only government entity with a legal authority (proclamation number 180//2019) and mandate to plan, manage, administer, and coordinate all health-related activities in the region.

Summary of the Award

Recipient: Southern Nations, Nationalities, and Peoples Regional Health Bureaus (SNNPRHB).

Purpose of the Award: The purpose of this award is to ensure continuity of quality comprehensive HIV/AIDS prevention, care, and treatment services for controlling the HIV epidemic in SNNPR in Ethiopia. This NOFO will help the region close gaps to achieve the 95-95-95 goals (95% of HIV-positive individuals knowing their status, 95% of those receiving antiretroviral therapy [ART], and 95% of those achieving viral suppression) and reach HIV epidemic control.

Amount of Award: The approximate year 1 funding amount will be $6,000,000 in Federal Fiscal Year (FFY) 2022 funds, subject to the availability of funds. Funding amounts for years 2-5 will be set at continuation.

Authority: This program is authorized under Public Law 108-25 (the United States Leadership Against HIV AIDS, Tuberculosis and Malaria Act of 2003).

Period of Performance: September 30, 2022 through September 29, 2027.

Dated: March 2, 2022.
Terrance W. Perry,
Chief Grants Management Officer, Centers for Disease Control and Prevention.

[FR Doc. 2022-04812 Filed 3-7-22; 8:45 am]

BILLING CODE 4163-18-P